DEPARTMENT OF JUSTICE

Drug Enforcement Administration

[Docket No. DEA-650]

Importer of Controlled Substances Application: Rhodes Technologies

ACTION: Notice of application.

DATES: Registered bulk manufacturers of the affected basic class(es), and applicants therefore, may file written comments on or objections to the issuance of the proposed registration on or before June 29, 2020. Such persons may also file a written request for a hearing on the application on or before June 29, 2020.

ADDRESSES: Written comments should be sent to: Drug Enforcement Administration, Attention: DEA Federal Register Representative/DPW, 8701 Morrissette Drive, Springfield, Virginia 22152. All requests for a hearing must be sent to: Drug Enforcement Administration, Attn: Administrator, 8701 Morrissette Drive, Springfield, Virginia 22152. All requests for a hearing should also be sent to: (1) Drug Enforcement Administration, Attn: Hearing Clerk/OALJ, 8701 Morrissette Drive, Springfield, Virginia 22152; and (2) Drug Enforcement Administration, Attn: DEA Federal Register Representative/DPW, 8701 Morrissette Drive, Springfield, Virginia 22152.

SUPPLEMENTARY INFORMATION: In accordance with 21 CFR 1301.34(a), this is notice that on February 13, 2020, Rhodes Technologies, 498 Washington Street, Coventry, Rhode Island 02816, applied to be registered as an importer of the following basic class(es) of controlled substances:

Controlled substance | Drug code | Schedule
Tetrahydrocannabinols | 7370 | I
Methylphenidate | 1724 | II
Oxycodone | 9143 | II
Hydromorphone | 9150 | II
Hydrocodone | 9193 | II
Morphine | 9300 | II
Opium, raw | 9600 | II
Oxymorphone | 9652 | II
Poppy Straw Concentrate | 9670 | II

The company plans to import Opium, raw (9600), and Poppy Straw Concentrate (9670) in order to bulk manufacture controlled substances in Active Pharmaceutical Ingredient (API) form. The company distributes the manufactured APIs in bulk to its customers.

The company plans to import the other listed controlled substances for internal reference standards use only. The comparisons of foreign reference standards to the company's domestically manufactured API will allow the company to export domestically manufactured API to foreign markets.

William T. McDermott,
Assistant Administrator.

[FR Doc. 2020-11393 Filed 5-27-20; 8:45 am]

BILLING CODE 4410-09-P